DEPARTMENT OF ENERGY

Federal Energy Regulatory Commission

[Docket No. RP98-52-047]

Southern Star Central Gas Pipeline, Inc.; Notice of Amendment to Filing of Refund Report

October 29, 2003.

Take notice that on October 22, 2003, Southern Star Central Gas Pipeline, Inc. (Southern Star), formerly Williams Gas Pipelines Central, Inc., tendered for filing its amendment to its Refund Report filed on June 5, 2003 in the above-referenced docket.

Southern Star states that this filing is being made to comply with Commission Letter Order issued September 23, 2003. The September 23 Letter Order directed Southern Star to file an amended report within 30 days of the order to provide: (1) The annual accounting of ad valorem taxes received from producers (with principal and interest shown separately) and/or refunds made by Southern Star since the last refund report of May 24, 2002; and (2) the refund accounting and status for all producers listed in the May 24, 2002 Refund Report with refund obligations, including Northern Pump, Clark Exploration, Andover Oil, Steve Smith and Williams Engineering.

Southern Star states that a copy of its amended filing was served on all parties included on the official service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eFiling link.

Magalie R. Salas,
Secretary.

[FR Doc. E3-00157 Filed 11-03-03; 8:45 am]

BILLING CODE 6717-01-P